DEPARTMENT OF STATE

[Public Notice: 11525]

Notification of the Fourteenth CAFTA-DR Environmental Affairs Council Meeting

AGENCY: Department of State.

ACTION: Notice of the fourteenth Dominican Republic-Central America-United States Free Trade Agreement (CAFTA-DR) Environmental Affairs Council meeting and request for comments.

SUMMARY: The Department of State and the Office of the United States Trade Representative are providing notice that the parties to CAFTA-DR intend to hold the fourteenth meeting of the Environmental Affairs Council (the Council) established under Chapter 17 (Environment Chapter) of that agreement in a virtual meeting on October 14, 2021, hosted by Costa Rica. The Department of State and Office of the United States Trade Representative also invite written comments or suggestions regarding topics to be discussed at the Council meeting to be submitted no later than September 23, 2021. When preparing comments, we encourage submitters to refer to Chapter 17 of the CAFTA-DR and to the CAFTA-DR Environmental Cooperation Agreement (ECA) (documents available at https://www.state.gov/key-topics-office-of-environmental-quality-and-transboundary-issues/current-trade-agreements-with-environmental-chapters/#cafta-dr and https://ustr.gov/issue-areas/environment/bilateral-and-regional-trade-agreements). Instructions on how to submit comments are under the heading ADDRESSES.

DATES: The public session of the Council will be held on October 14, 2021, from 4:00 p.m. to 5:20 p.m. EDT. Please contact Anel Gonzalez-Ruiz and Sigrid Simpson to request a link to this meeting. We request comments and suggestions in writing no later than September 23, 2021.

ADDRESSES: Written comments or suggestions should be submitted to both:

(1) Anel Gonzalez-Ruiz, U.S. Department of State, Bureau of Oceans and International Environmental and Scientific Affairs, Office of Environmental Quality, by email to Gonzalez-RuizA@state.gov with the subject line “CAFTA-DR EAC Meeting”; and

(2) Sigrid Simpson, Director for Environment and Natural Resources, Office of the United States Trade Representative by email to Sigrid.A.Simpson@ustr.eop.gov with the subject line “CAFTA-DR EAC Meeting”.

If you have access to the internet you can view and comment on this notice by going to: http://www.regulations.gov/#!home and searching for docket number DOS-2021-0029.

FOR FURTHER INFORMATION CONTACT: Anel Gonzalez-Ruiz, (202) 705-5282, or Sigrid Simpson, (202) 881-6592.

SUPPLEMENTARY INFORMATION: On October 14, the Council will meet in a closed government-to-government session to (1) review implementation of the Environment chapter and discuss how parties are meeting their environment chapter obligations, including by highlighting increased levels of environmental protection, environmental enforcement, and related achievements in the past year; (2) discuss the most pressing trade-related environmental challenges facing the parties and identify key actions that the parties can take under CAFTA-DR to address them; (3) receive a report from the CAFTA-DR Secretariat for Environmental Matters on the status of public submissions; and (4) highlight the achievements of the CAFTA-DR Environmental Cooperation Program on its fifteenth anniversary and review ongoing work under that program.

The Council invites all interested persons to attend a virtual public session on Chapter 17 implementation, beginning at 4:00 p.m. EDT on October 14. At the session, the Council will welcome questions, input, and information about challenges and achievements in implementation of the Environment chapter obligations and the related ECA. If you would like to connect to the public session, please notify Anel Gonzalez-Ruiz and Sigrid Simpson at the email addresses listed under the heading ADDRESSES. Please include your full name and identify any organization or group you represent.

Article 17.5 of the CAFTA-DR establishes an Environmental Affairs Council (the Council) and provides that, unless the CAFTA-DR parties otherwise agree, the Council will meet annually to oversee the implementation of, and review progress under, Chapter 17, and to consider the status of cooperation activities developed under the ECA. Article 17.5 further requires that, unless the parties otherwise agree, each meeting of the Council include a session in which members of the Council have an opportunity to meet with the public to discuss matters relating to the implementation of Chapter 17.

In preparing comments, we encourage submitters to refer to:

• Chapter 17 of the CAFTA-DR and

• The ECA

These documents are available at: https://www.state.gov/key-topics-office-of-environmental-quality-and-transboundary-issues/current-trade-agreements-with-environmental-chapters/#cafta-dr and https://ustr.gov/issue-areas/environment/bilateral-and-regional-trade-agreements. Visit the State website at www.state.gov and the USTR website at www.ustr.gov for more information.

Raffi V. Balian,
Acting Director, Office of Environmental Quality, U.S. Department of State.

[FR Doc. 2021-19060 Filed 9-2-21; 8:45 am]

BILLING CODE 4710-09-P